DEPARTMENT OF HOMELAND SECURITY

Coast Guard

33 CFR Part 165

[Docket No. USCG-2018-0395]

Safety Zones; Annual Fireworks Displays Within the Sector Columbia River Captain of the Port Zone

AGENCY: Coast Guard, DHS.

ACTION: Notice of enforcement of regulation.

SUMMARY: The Coast Guard will enforce safety zones regulations at various locations in the Sector Columbia River Captain of the Port zone. This action is necessary to provide for the safety of life on these navigable waters during fireworks displays. While these safety zone regulations are subject to enforcement, persons and vessels are prohibited from being in the safety zone unless authorized by the Captain of the Port Sector Columbia River or a designated representative.

DATES: The regulations in 33 CFR 165.1315 will be enforced for the safety zones identified in the SUPPLEMENTARY INFORMATION section below for the dates and times specified in this document.

FOR FURTHER INFORMATION CONTACT: If you have questions about this notice of enforcement, call or email LCDR Laura Springer, Waterways Management Division, Marine Safety Unit Portland, Coast Guard; telephone 503-240-9319, email msupdxwwm@uscg.mil.

SUPPLEMENTARY INFORMATION: These safety zones found in 33 CFR 165.1315 will be activated and thus subject to enforcement at least 1 hour before and 1 hour after the duration of the event each day as listed in the following Table:

Table—Dates and Durations in 2018 for Events Listed in 33 CFR 165.1315 and the Location of These Events Within the Sector Columbia River Captain of the Port Zone
Event name (typically) | Event location | Date and duration of event | Latitude | Longitude
Portland Rose Festival Fireworks | Portland, OR | May 25, 2018, 9:45 p.m. to 10 p.m | 45°30′58″ N | 122°40′12″ W
Tri-City Chamber of Commerce Fireworks/River of Fire Festival | Kennewick, WA | July 4, 2018, 10 p.m. to 10:30 p.m | 46°13′37″ N | 119°08′47″ W
Astoria-Warrenton 4th of July Fireworks | Astoria, OR | July 4, 2018, 10 p.m. to 10:30 p.m | 46°11′34″ N | 123°49′28″ W
Waterfront Blues Festival Fireworks | Portland, OR | July 4, 2018, 10 p.m. to 10:30 p.m | 45°30′42″ N | 122°40′14″ W
Florence Independence Day Celebration | Florence, OR | July 4, 2018, 10 p.m. to 10:30 p.m | 43°58′09″ N | 124°05′50″ W
Oaks Park Association 4th of July | Portland, OR | July 4, 2018, 10 p.m. to 10:30 p.m | 45°28′22″ N | 122°39′59″ W
City of Rainier/Rainier Days | Rainier, OR | July 7, 2018, 10 p.m. to 10:30 p.m | 46°05′46″ N | 122°56′18″ W
Splash Aberdeen Waterfront Festival | Aberdeen, WA | July 4, 2018, 10 p.m. to 10:20 p.m | 46°58′40″ N | 123°47′45″ W
City of Coos Bay July 4th Celebration/Fireworks Over the Bay | Coos Bay, OR | July 4, 2018, 10 p.m. to 10:30 p.m | 43°22′06″ N | 124°12′24″ W
Port of Cascade Locks 4th of July Fireworks | Cascade Locks, OR | July 4, 2018, 10 p.m. to 10:30 p.m | 45°40′15″ N | 121°53′43″ W
Clatskanie Heritage Days Fireworks | Clatskanie, OR | July 4, 2018, 10 p.m. to 10:30 p.m | 46°6′17″ N | 123°12′02″ W
Washougal 4th of July | Washougal, WA | July 4, 2018, 10 p.m. to 10:30 p.m | 45°34′32″ N | 122°22′53″ W
City of St. Helens 4th of July Fireworks | St. Helens, OR | July 4, 2018, 10 p.m. to 10:30 p.m | 45°51′54″ N | 122°47′26″ W
Waverly Country Club 4th of July Fireworks | Milwaukie, OR | July 4, 2018, 10 p.m. to 10:30 p.m | 45°27′03″ N | 122°39′18″ W
Hood River 4th of July | Hood River, OR | July 4, 2018, 9:30 p.m. to 11:30 p.m | 45°42′58″ N | 121°30′32″ W
Winchester Bay 4th of July Fireworks | Winchester Bay, OR | July 4, 2018, 10 p.m. to 10:30 p.m | 43°40′56″ N | 124°11′13″ W
Brookings, OR July 4th Fireworks | Brookings, OR | July 4, 2018, 10:15 p.m. to 10:40 p.m | 42°02′39″ N | 124°16′14″ W
Yachats 4th of July | Yachats, OR | July 4, 2018, 10 p.m. to 10:30 p.m | 44°18′38″ N | 124°06′27″ W
Lincoln City 4th of July | Lincoln City, OR | July 4, 2018, 10 p.m. to 10:30 p.m | 44°55′28″ N | 124°01′31″ W
July 4th Party at the Port of Gold Beach | Gold Beach, OR | July 4, 2018, 10 p.m. to 10:30 p.m | 42°25′30″ N | 124°25′03″ W
Huntington 4th of July | Huntington, OR | July 4, 2018, 10 p.m. to 10:30 p.m | 44°18′02″ N | 117°13′33″ W
Toledo Summer Festival | Toledo, OR | July 14, 2018, 10 p.m. to 10:30 p.m | 44°37′08″ N | 123°56′24″ W
Port Orford 4th of July | Port Orford, OR | July 4, 2018 10 p.m. to 10:30 p.m. | 42°44′31″ N | 124°29′30″ W
Roseburg Hometown 4th of July | Roseburg, OR | July 4, 2018, 10 p.m. to 10:30 p.m | 43°12′58″ N | 123°22′10″ W
Newport 4th of July | Newport, OR | July 4, 2018, 10 p.m. to 10:30 p.m | 44°37′40″ N | 124°02′45″ W
Cedco Inc./The Mill Casino Independence Day | North Bend, OR | July 3, 2018, 10 p.m. to 10:30 p.m | 43°23′42″ N | 124°12′55″ W
Waldport 4th of July | Waldport, OR | July 3, 2018, 10 p.m. to 10:30 p.m | 44°25′31″ N | 124°04′44″ W
Westport 4th of July | Westport, WA | July 4, 2018, 10 p.m. to 11 p.m | 46°54′17″ N | 124°05′59″ W
Bandon 4th of July | Bandon, OR | July 4, 2018, 10 p.m. to 10:30 p.m | 43°07′29″ N | 124°25′05″ W
Garibaldi Days Fireworks | Garibaldi, OR | July 28, 2018, 10 p.m. to 10:30 p.m | 45°33′13″ N | 123°54′56″ W
Bald Eagle Days | Cathlamet, WA | July 21, 2018, 10 p.m. to 10:30 p.m | 46°12′14″ N | 123°23′17″ W

All coordinates are listed in reference Datum NAD 1983.

In addition to this notice of enforcement in the Federal Register, the Coast Guard plans to provide notification of these enforcement periods via the Local Notice to Mariners.

Dated: May 2, 2018.
D.F. Berliner,
Captain, U.S. Coast Guard, Acting Captain of the Port, Sector Columbia River.

[FR Doc. 2018-11076 Filed 5-23-18; 8:45 am]

BILLING CODE 9110-04-P